FEDERAL MARITIME COMMISSION

Ocean Transportation Intermediary License Revocations

The Commission gives notice that the following Ocean Transportation Intermediary licenses have been revoked pursuant to section 19 of the Shipping Act of 1984 (46 U.S.C. 40101) effective on the date shown.

License No.: 1695F.

Name: Union Shipping Company.

Address: 7480 NW. 52nd Street, Miami, FL 33166.

Date Revoked: January 14, 2013.

Reason: Failed to maintain a valid bond.

License No.: 001945F.

Name: The I.C.E. Co., Inc.

Address: 1702 Minters Chapel Road, Suite 100, Grapevine, TX 76051.

Date Revoked: January 14, 2013.

Reason: Voluntary Surrender of License.

License No.: 2868F.

Name: Jarvis International Freight, Inc.

Address: 1950 South Starpoint Drive, Houston, TX 77032.

Date Revoked: December 11, 2012.

Reason: Voluntary Surrender of License.

License No.: 017269N.

Name: Fastmark Corporation.

Address: 7206 NW. 84th Avenue, Medley, FL 33166.

Date Revoked: January 22, 2013.

Reason: Failed to maintain a valid bond.

License No.: 017835N.

Name: Multi Link Container Line, LLC.

Address: 20 East Sunrise Highway, Suite 308, Valley Stream, NY 11581.

Date Revoked: January 18, 2013.

Reason: Failed to maintain a valid bond.

License No.: 018732F.

Name: Transways Logistics International Inc.

Address: 149-23 182nd Street, Suite 101, Jamaica, NY 11413.

Date Revoked: January 25, 2013.

Reason: Failed to maintain a valid bond.

License No.: 020829N.

Name: Yishun Logistics (USA) Inc.

Address: 167-43 148th Avenue, 2nd Floor, Jamaica, NY 11434.

Date Revoked: January 25, 2013.

Reason: Failed to maintain a valid bond.

License No.: 021023NF.

Name: Inma Export Corp.

Address: 1208 SW. 2nd Street, Miami, FL 33135.

Date Revoked: January 26, 2013.

Reason: Failed to maintain valid bonds.

License No.: 022332NF.

Name: FS Goodship, LLC.

Address: 699 Lively Blvd., Elk Grove Village, IL 60007.

Date Revoked: January 16, 2013.

Reason: Voluntary Surrender of License.

License No.: 022922N.

Name: Valueway Global Logistics Inc.

Address: 136-31 41st Avenue, Suite 7C, Flushing, NY 11355.

Date Revoked: January 18, 2013.

Reason: Voluntary Surrender of License.

License No.: 023744N.

Name: StarWin Logistics Inc.

Address: 160-51 Rockaway Blvd., Suite 200, Jamaica, NY 11434.

Date Revoked: January 28, 2013.

Reason: Voluntary Surrender of License.

License No.: 023835NF.

Name: Purely Global, Inc.

Address: 15050 SW. 23rd Street, Miami, FL 33185.

Date Revoked: January 30, 2013.

Reason: Voluntary Surrender of License.

Vern W. Hill,
Director, Bureau of Certification and Licensing.

[FR Doc. 2013-04596 Filed 2-26-13; 8:45 am]

BILLING CODE 6730-01-P